NATIONAL FOUNDATION ON THE ARTS AND THE HUMANITIES

National Endowment for the Arts; Arts Advisory Panel

Pursuant to section 10(a)(2) of the Federal Advisory Committee Act (Pub. L. 92-463), as amended, notice is hereby given that three meetings of the Arts Advisory Panel to the National Council on the Arts will be held by teleconference at the Nancy Hanks Center, 1100 Pennsylvania Avenue, NW., Washington, DC 20506 as follows:

Literature (Reading in America): February 22, 2005, from Room 722. This meeting, from 1 p.m. to 2 p.m., will be closed.

Music (NEA Jazz Masters—Radio Project): February 22, 2005, from Room 703. This meeting, from 2 p.m. to 2:30 p.m., will be closed.

Theater (Shakespeare in American Communities): March 2, 2005, from Room 521. This meeting, from 2 p.m. to 2:30 p.m., will be closed.

These meetings are for the purpose of Panel review, discussion, evaluation, and recommendations on financial assistance under the National Foundation on the Arts and the Humanities Act of 1965, as amended, including information given in confidence to the agency. In accordance with the determination of the Chairman of April 30, 2003, these sessions will be closed to the public pursuant to subsection (c)(6) of section 552b of Title 5, United States Code.

Further information with reference to this meeting can be obtained from Ms. Kathy Plowitz-Worden, Office of Guidelines & Panel Operations, National Endowment for the Arts, Washington, DC 20506 or call (202) 682-5691.

Dated: February 5, 2005.
Kathy Plowitz-Worden,
Panel Coordinator, Panel Operations, National Endowment for the Arts.

[FR Doc. 05-2497 Filed 2-8-05; 8:45 am]

BILLING CODE 7537-01-P